DEPARTMENT OF TRANSPORTATION

National Highway Traffic Safety Administration

49 CFR Part 571

[Docket No. NHTSA 2001-8953]

Monitoring the Performance of Advanced Air Bags and Developing Data for Potential Future Air Bag Rulemakings

AGENCY: National Highway Traffic Safety Administration (NHTSA), DOT.

ACTION: Request for comments.

SUMMARY: This document requests comments on NHTSA's plan for monitoring the performance of advanced air bags and developing data for potential future air bag rulemakings. The document presents the agency's proposed actions in monitoring the real-world crash performance of advanced air bags, performing compliance testing, conducting research to evaluate the performance of advanced air bags, and evaluating the costs of advanced air bag systems. NHTSA seeks public review and comment on the planning document. Comments received will be evaluated and incorporated, as appropriate, into the planned agency activities.

DATES: Comments must be received no later than August 9, 2001.

ADDRESSES: Submit written comments to the Docket Management System, U.S. Department of Transportation, PL 401, 400 Seventh Street, SW., Washington, DC 20590-0001. Comments should refer to the Docket Number (NHTSA 2001-8953) and be submitted in two copies. If you wish to receive confirmation of receipt of your written comments, include a self-addressed, stamped postcard.

Comments may also be submitted to the docket electronically by logging onto the Docket Management System website at http://dms.dot.gov. Click on “Help & Information” to obtain instructions for filing the comment electronically. In every case, the comment should refer to the docket number.

The Docket Management System is located on the Plaza level of the Nassif Building at the Department of Transportation at the above address. You can review public dockets there between the hours of 9:00 a.m. and 5:00 p.m., Monday through Friday, except Federal holidays. You can also review comments on-line at the DOT Docket Management System website at http://dms.dot.gov.

FOR FURTHER INFORMATION CONTACT: William H. Walsh, Office of Plans and Policy, NPP-01, National Highway Traffic Safety Administration, Room 5208, 400 Seventh Street, SW, Washington, DC 20590. Telephone: 202-366-2550.

SUPPLEMENTARY INFORMATION:

Background

The Final Rule and Interim Final Rule for Advanced Air Bags (65 FR 30680, May 12, 2000), amended our occupant crash protection standard to require that future air bags be designed to create less risk of serious air bag-induced injuries than current air bags, particularly for small statured adults and young children; and provide improved frontal crash protection for all occupants, by means that include advanced air bag technology. To achieve these goals, it added a wide variety of new requirements, test procedures, and injury criteria, using an assortment of new dummies. The rule will ensure that advanced air bag technologies are installed across the full spectrum of future fleets of motor vehicles. As a result, we expect that the air bags in these newer vehicles will be even more effective than the current redesigned air bags in saving lives. At the same time, we also expect that these newer air bags will be much less likely than those redesigned air bags to cause deaths or serious injuries.

The provisions of this rule, particularly the maximum test speed for the unbelted rigid barrier test, reflect the uncertainty associated with simultaneously achieving the twin goals of the Transportation Equity Act for the 21st Century (TEA-21). This uncertainty led us to take an approach that best assures improved air bag protection for occupants of all sizes, without compromising efforts to reduce the risks of injury to vulnerable occupants, including children and small statured adults seated very close to air bags and out-of-position occupants. In light of that uncertainty, we selected the lower of two proposed speeds as the maximum test speed for the unbelted rigid barrier crash test and issued that part of the rule as an interim final rule. To resolve that uncertainty, we are planning a multi-year effort to obtain additional data.

Monitoring Approach

In the Preamble for the Final Rule and Interim Final Rule, NHTSA discussed monitoring the performance of advanced air bags and potential future rulemakings. The overall goal is to monitor the performance of advanced air bags: (1) in low speed crashes with at-risk populations and (2) in high speed crashes (particularly those involving unbelted front seat occupants) to support future decision making on the high speed unbelted test requirement. This paper provides a general discussion of the agency's plans for accomplishing these tasks.

In the Preamble, NHTSA identified the following approaches:

• Evaluate real-world crash performance of advanced air bags in both low and high speed crashes.

• Perform compliance testing to assure safe performance of advanced systems and consider publishing an annual compliance margin report.

• Conduct research to:

(1) Evaluate the performance of advanced systems, including unbelted barrier tests at various speeds;

(2) Continue research into the technology of advanced air bags; and

(3) Conduct biomechanics research on the correlation between Injury Assessment Research Values (IARV) and real world injuries.

• Monitor the introduction, public acceptance, and effectiveness of technology to encourage seat belt use.

• Evaluate the costs of advanced air bag systems.

I. Real World Performance of Advanced Air Bags

We are considering various approaches to monitor how well advanced air bags are protecting occupants of different sizes and ages, at different speeds, belted/child restraint and unbelted. The approach will be to compare the performance of advanced air bag systems with the performance of previous generation air bag systems. It is important to understand that significant introduction of vehicles certified to the advanced air bag standard will not occur until Model Year 2004 when 35% of the new vehicle fleet must be so equipped. At the end of that model year, less than 5% of the on-road fleet will be equipped with advanced air bag systems. At the end of the phase-in Model Year 2006 less than 20% of the on-road fleet will be equipped with advanced air bag systems. Unless there are significant changes in the effectiveness of the advanced air bag systems, it will be several years later before any statistical understanding of system effectiveness will be possible. In the interim, NHTSA will continue to support special studies of crash experience and rely on anecdotal and engineering analysis to address real world performance issues.

Data Sources

• We are planning to develop a database that describes air bag design features by make/model/model year; registration data; and key performance attributes (e.g., dual speed inflators, occupant position sensors, deployment thresholds) of advanced air bag systems. Manufacturers that submit information to the agency and wish to seek confidential treatment for the information must submit a request for confidential treatment in accordance with the procedures set forth in the agency's regulations governing Business Confidential Information, 49 CFR Part 512. Any information contained in this database that is entitled to confidential treatment will not be released to the public.

• In-depth crash data will be available from the National Automotive Sampling System (NASS), the Special Crash Investigation (SCI) Program, and the Crash Injury Research and Engineering Network (CIREN). These databases can be used for statistical analysis and engineering analysis of air bag system performance. A key initiative under development is to work with manufacturers to secure data from on-board crash recorders, which would improve our understanding of crash severity and pre-crash maneuvers.

• NHTSA has already instituted two special studies related to air bags. The Redesigned Air Bag Special Study was begun in October 1997 to collect data on crashes involving depowered air bags (air bags which have been redesigned in response to an amendment to FMVSS 208 in 1997 that authorized certification through use of a sled test rather than a crash test into a rigid barrier). The objective of this study is to collect data on crashes of high interest (children, out of position occupants, high damage severity, and multiple injured occupants) involving vehicles equipped with a redesigned air bag system in which the air bag has deployed. In September 1999, the NHTSA initiated the Advanced Occupant Protection Special Study to collect data on crashes involving MY 2000 (and later) vehicles equipped with air bag systems with certain advanced design features (e.g., dual speed inflators, weight sensors, seat position sensors).

• Databases, without in-depth crash investigation data, such as the Fatality Analysis Reporting System (FARS) and the Crash Outcome Data Evaluation System (CODES) will be evaluated for statistical analysis of system performance.

• Industry data will be used as it becomes available. The automobile manufacturers have stated their intention to supplement NHTSA data with a significant investment in crash reconstruction data. Insurance industry data will also be used as available.

Analytic Agenda

• Low Speed Crashes (0-25 mph delta V): The primary interest in low speed crashes will be focused on out-of-position occupants. We will try to understand how dual speed air bags, low risk deployment air bags, various occupant position/size sensors, deployment thresholds, restraint use and overall system designs affect the occurrence and severity of injuries at different crash severities under 25 mph delta V. We will be looking at drivers and passengers considering their size and age and restraint usage. We will also be looking at small children and the type of child restraint used. We will also be evaluating in-position occupants in a similar fashion.

• Higher Speed Crashes (25 mph delta V and greater): The analytic approach will be similar in the high speed regime, but the focus will be different. We will attempt to understand how the deployment threshold design, the “power” in the second stage of dual speed advanced air bags, the position of the driver/passenger, and restraint usage contribute to system performance. A key issue will be how advanced air bags protect unrestrained occupants in higher speed crashes. Again, we will be looking at drivers and passengers considering their size and age.

II. Compliance Testing

NHTSA will conduct a significant amount of compliance testing of vehicles certified to the advanced air bag requirements (Model Year 2004 when 35% of the new vehicle fleet must be certified). Data from this testing program will be integrated with research tests to monitor the performance of advanced air bag systems. We will consider publishing an annual report, using manufacturer test data as well as NHTSA compliance tests, indicating the extent to which vehicles exceed the performance requirements in the standard. We will first evaluate whether consumers could effectively use this information as an indicator of the relative performance of restraint systems in different vehicles along with other consumer information distributed by this agency, such as results from the New Car Assessment Program (NCAP).

Data Sources

NHTSA routinely tests vehicles to the test procedures specified in the federal motor vehicle safety standards. We also routinely receive certification data from manufacturers as we develop our test program for each year. We can also request information about other testing conducted by manufacturers, in addition to the tests used for certification purposes. Manufacturers that submit information to the agency and wish to seek confidential treatment for the information must submit a request for confidential treatment in accordance with the procedures set forth in the agency's regulations governing Business Confidential Information, 49 CFR Part 512. Specific tests include:

• Low speed tests (Static Out-of-Position, Static Suppression).

• High speed tests (25 mph Offset Deformable Barrier—Belted 5th female, 25 mph Rigid Barrier—Unbelted 5th female and 50th male, 30 mph Rigid Barrier—Belted 5th female, 35 mph Rigid Barrier—Belted 50th male starting in MY 2007).

III. Research Related to Advanced Air Bag Systems

a. Research Testing

We plan to conduct research to evaluate advanced air bag systems introduced into the fleet.

Tests on newly introduced systems will be performed to provide data for potential future rulemakings and to provide information that will help monitor the progress of the industry in maximizing occupant protection. A coordinated research program will be developed which is complementary to the testing conducted in our New Car Assessment Program (NCAP) and our compliance program. We plan to evaluate how well advanced air bags are protecting occupants of different sizes, at different speeds, belted/child restraint and unbelted in both passenger cars and light trucks. Key issues include: (1) the appropriate speed for the unbelted rigid barrier test, which is currently set at 25 mph; (2) raising the speed for restrained testing with the 5% dummy to 35 mph; and (3) evaluating design approaches for achieving low risk deployments for out-of-position occupants. This research effort will complement the analysis of real world performance of air bags described in Section I.

Data Sources

Tests being considered include:

• 15-20 mph Rigid Barrier Tests—Unbelted 5th female and possibly 3 and 6 year old.

• 25-35 mph Rigid Barrier—Unbelted 5th female and 50th male.

• 35 mph Rigid Barrier—Belted 5th female.

• 37.5-40 mph Offset Deformable Barrier—Belted 5th female and 50th male.

• A variety of tests with the 95th male dummy.

B. Research Into the Technology of Future Advanced Air Bags

The agency plans to conduct research on advanced air bag technology that would be considered for installation 3-5 years into the future.

• Survey suppliers for ideas about long range enhancements to air bag technologies and their willingness to participate in cooperative research agreements

• Select technologies of interest and appropriate vendors to develop technology; e.g. advanced sensors, dynamic suppression, advanced algorithms, tailored belt loading, etc.

• Test and evaluate advanced technology and compare it to the performance of advanced air bag systems evaluated in testing described in Section IIIa.

C. Biomechanics Research on Injury Assessment Research Values (IARV)

The agency will conduct biomechanics research to confirm the relationship between IARVs and real world injuries. We also will conduct additional validation of dummies/injury criteria (especially neck). We also plan to do further work on pediatric injury criteria through scaling for the full range of child dummies. Data sources include CIREN, NASS and computer modeling.

IV. Monitor Education Programs and Technology To Increase Seat Belt Use

The agency will continue its public education campaigns. We will monitor the effectiveness of the campaign that children 12 years of age and younger should ride in the back seat. Educational information will be developed and disseminated on how different advanced air bag systems work. Consumer information will continue to be disseminated through a variety of media (e.g. Internet, Hotline, consumer advisories, etc.). We will also monitor the introduction by manufacturers of technology to encourage belt use.

Data Sources

• Use the National Occupant Protection Use Survey (NOPUS) and analyses of various crash data sources to evaluate seating position of children by age and air bag system;

• Monitor attitudes toward advanced air bag systems and misconceptions on their performance using telephone surveys, Hotline contacts, news articles and focus groups;

• Identify, using an industry survey, those seat belt systems designed to encourage belt use. Monitor seat belt use for these systems using observation studies and crash data.

V. Evaluate Costs of Advanced Air Bag Systems

We plan to monitor the cost of air bag systems using market surveys, information from manufacturers, and special engineering cost studies. These data will be used in subsequent analysis of the costs and benefits of the advanced air bag rule.

How Do I Prepare and Submit Comments?

Your comments must be written and in English. To ensure that your comments are correctly filed in the Docket, please include the Docket number of this document (NHTSA 2001-8953) in your comments.

Please send two paper copies of your comments to Docket Management or submit them electronically. The mailing address is U.S. Department of Transportation Docket Management, Room PL-401, 400 Seventh Street, SW., Washington, DC 20590. If you submit your comments electronically, log onto the Docket Management System website at http://dms.dot.gov and click on “Help & Information” or “Help/Info” to obtain instructions.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR Part 512).

In addition, send two copies from which you have deleted the claimed confidential business information to Docket Management, Room PL-401, 400 Seventh Street, SW., Washington, DC 20590.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW., Washington, DC from 10:00 a.m. to 5:00 p.m., Monday through Friday.

You may also see the comments on the Internet by taking the following steps:

1. Go to the Docket Management System (DMS) Web page of the Department of Transportation (http://dms.dot.gov).

2. On that page, click on “search.”

3. On the next page (http://dms.dot.gov/search) type in the four-digit Docket number shown at the beginning of this document (8953). Click on “search.”

4. On the next page, which contains Docket summary information for the Docket you selected, click on the desired comments. You may also download the comments.

Authority: 49 U.S.C. 30111, 30117, 30168; delegation of authority at 49 CFR 1.50 and 501.8.

William H. Walsh,
Associate Administrator for Plans and Policy.

[FR Doc. 01-15814 Filed 6-22-01; 8:45 am]

BILLING CODE 4910-59-P